DEPARTMENT OF VETERANS AFFAIRS

Veterans' Advisory Committee on Rehabilitation (VACOR); Notice of Meeting

The Department of Veterans Affairs (VA) gives notice under Public Law 92-463 (Federal Advisory Committee Act) that a meeting of the Veterans' Advisory Committee on Rehabilitation (VACOR), will be held on September 10-12, 2003, at the Department of Veterans Affairs, Room C-7, 810 Vermont Avenue, NW., Washington, DC. The meeting sessions will begin at 8 a.m. each day and end at 4:30 p.m. on September 10 and 11 and at 12 Noon on September 12. The meeting is open to the public.

The purpose of the Committee is to provide advice to the Secretary of Veterans Affairs on the rehabilitation needs of disabled veterans and the administration of VA's rehabilitation programs.

Specifically, the Committee will be discussing the information gathered from three separate fact-finding site visits accomplished this spring to the following Department of Veterans Affairs Medical Centers: Palo Alto, California; Miami, Florida; and Dallas, Texas.

No time will be allocated at this meeting for receiving oral presentations from the public. Any member of the public wishing to attend the meeting is requested to contact Ms. Alison Rosen, Designated Federal Officer, at (202) 273-7208. The Committee will accept written comments, which should be addressed to Ms. Rosen at Department of Veterans Affairs, Veterans Benefits Administration (28), 810 Vermont Avenue, NW., Washington, DC 20420, or electronically to VREAROSE@VBA.VA.GOV. In their communications with the Committee, the writers must identify themselves and state the organizations, associations, or person(s) they represent.

Dated: July 28, 2003.
By Direction of the Secretary.
E. Philip Riggin,
Committee Management Officer.

[FR Doc. 03-19757 Filed 8-1-03; 8:45 am]

BILLING CODE 8320-01-M